DEPARTMENT OF HOMELAND SECURITY

Coast Guard

33 CFR Part 117

[Docket No. USCG-2016-0090]

Drawbridge Operation Regulation; Youngs Bay, Astoria, OR

AGENCY: Coast Guard, DHS.

ACTION: Notice of deviation from drawbridge regulation.

SUMMARY: The Coast Guard has issued a temporary deviation from the operating schedule that governs the Oregon State highway bridge across Youngs Bay foot of Fifth Street, mile 2.4, at Astoria, OR. The common name of this bridge is Old Youngs Bay Bridge. The deviation is necessary to accommodate extensive maintenance and restoration efforts on this bridge. This deviation allows the double bascule span to operate in a single leaf mode when at least a three-hour advance notification is given by marine vessels that require an opening, and the vertical clearance of the bridge to be reduced.

DATES: This deviation is effective from 7 a.m. on February 15, 2016 to 11 p.m. on June 15, 2016.

ADDRESSES: The docket for this deviation, [USCG-2016-0090] is available at http://www.regulations.gov. Type the docket number in the “SEARCH” box and click “SEARCH.” Click on Open Docket Folder on the line associated with this deviation.

FOR FURTHER INFORMATION CONTACT: If you have questions on this temporary deviation, call or email Steven M. Fischer, Thirteenth Coast Guard District Bridge Program Administrator, telephone 206-220-7282, email d13-pf-d13bridges@uscg.mil.

SUPPLEMENTARY INFORMATION: The Oregon Department of Transportation (ODOT) requested to reduce the vertical clearance of the Old Youngs Bay Bridge, mile 2.4, across Youngs Bay foot of Fifth Street at Astoria, OR, and to open half of the draw span when at least a three-hour notice is given to the bridge operator by vessels wishing to pass. The requested period of deviation is from 7 a.m. on February 15, 2016 to 11 p.m. on June 15, 2016. The deviation is necessary to accommodate extensive maintenance and restoration efforts on this bridge. The Old Youngs Bay Bridge provides a vertical clearance approximately 19 feet above mean high water when in the closed-to-navigation position. The double bascule span of the bridge will have a containment system installed which will reduce the vertical clearance by 5 feet from 19 feet above mean high water to 14 feet above mean high water. The normal operating schedule can be found in 33 CFR 117.899(b). The deviation allows the double bascule span of the Old Youngs Bay Bridge to operate single leaf when at least three-hours of notice are given by mariners requiring an opening during the deviation period. Waterway usage on Youngs Bay is primarily small recreational boaters and fishing vessels.

Vessels able to pass through the bridge in the closed positions may do so at any time. The bridge will be able to open for emergencies if a three-hour notice is given to the bridge operator, and there is no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: February 3, 2016.
Steven M. Fischer,
Bridge Administrator, Thirteenth Coast Guard District.

[FR Doc. 2016-02486 Filed 2-8-16; 8:45 am]

BILLING CODE 9110-04-P